Title 3—

The President

Proclamation 8871 of September 28, 2012

National Public Lands Day, 2012

By the President of the United States of America

A Proclamation

When Thomas Jefferson described the view from Monticello in 1786, he wrote, “How sublime to look down into the workhouse of nature, to see her clouds, hail, snow, rain, thunder, all fabricated at our feet!” Though much has changed in the years since our third President put those words to paper, the sense of awe and reverence he expressed still courses through the American spirit. Our expansive landscapes remain an inspiration for all to behold, and as an essential piece of our heritage, it is incumbent upon us to protect them not only in our time, but for all time.

Today, thousands of Americans will take up that task by volunteering to care for our public lands. Cities and communities across our country will join together to restore the lands and waters we share, and families nationwide will explore the natural splendor that stretches from our Atlantic shores to the Pacific's rocky coasts. As we take time to connect with America's great outdoors in urban and rural areas alike, we are reminded of the varied roles our public lands play in our national life. These areas boost tourism and contribute to public health; they power local economies, fuel tomorrow's energy solutions, and serve as critical havens of biodiversity; and just as they always have, our public lands remain places of irreplaceable beauty. Through the America's Great Outdoors initiative, my Administration has worked to expand access to these important spaces while ensuring they are protected for future generations, and moving forward, we will continue to advance that vital mission.

The rugged grandeur of the American landscape has helped shape our character and our soul as a Nation. As we celebrate this National Public Lands Day, let us reflect on the lands and waters that so deeply enrich our experience, and let us renew our commitment to protecting them in the years to come.

NOW, THEREFORE, I, BARACK OBAMA, President of the United States of America, by virtue of the authority vested in me by the Constitution and the laws of the United States, do hereby proclaim September 29, 2012, as National Public Lands Day. I encourage all Americans to participate in a day of public service for our lands.

IN WITNESS WHEREOF, I have hereunto set my hand this twenty-eighth day of September, in the year of our Lord two thousand twelve, and of the Independence of the United States of America the two hundred and thirty-seventh.

[FR Doc. 2012-24530

Filed 10-2-12; 8:45 am]

Billing code 3295-F3